DEPARTMENT OF COMMERCE

International Trade Administration

President's Export Council: Open Meeting Conference Call of the President's Export Council

AGENCY: International Trade Administration, U.S. Department of Commerce.

ACTION: Notice of an open meeting conference call.

SUMMARY: The President's Export Council (PEC) will hold an open meeting conference call to discuss the PEC's Final Report to the Administration. The PEC was established on December 20, 1973, and reconstituted May 4, 1979, to advise the President on matters relating to U.S. trade. The PEC's charter was most recently renewed by Executive Order 12991.

DATES: Tuesday, September 19, 2000.

TIME: 3 p.m. (Eastern Standard Time)

ADDRESSES: The U.S. Department of Commerce, 1401 Constitution Avenue, NW, Washington, DC 20230, Room 1411. This open meeting conference call discussion is physically accessible to people with disabilities. Requests for sign language interpretation or any other auxiliary aids should be submitted by August 30, 2000, to J. Marc Chittum, President's Export Council, Room 2015B, Washington, DC 20230 (Phone: 202-482-1124; Fax: 202-482-4452). Seating is limited and will be on a first come first serve basis.

FOR FURTHER INFORMATION CONTACT: J. Marc Chittum, President's Export Council, Room 2015B, Washington, DC 20230 (Phone: 202-482-1124, Fax: 202-482-4452).

Dated: September 5, 2000.
J. Marc Chittum,
Staff Director and Executive Secretary, President's Export Council.

[FR Doc. 00-23129 Filed 9-7-00; 8:45 am]

BILLING CODE 3510-DR-U